DEPARTMENT OF ENERGY

Federal Energy Regulatory Commission

[Project No. 2309-019]

Jersey Central Power & Light Company and PSEG Fossil, LLC; Notice of Application Tendered for Filing With the Commission and Establishing Procedural Schedule for Licensing and Deadline for Submission of Final Amendments

Take notice that the following hydroelectric application has been filed with the Commission and is available for public inspection.

a. Type of Application: New Major License.

b. Project No.: 2309-019.

c. Date Filed: February 18, 2011.

d. Applicant: Jersey Central Power & Light Company and PSEG Fossil, LLC.

e. Name of Project: Yards Creek Pumped Storage Project.

f. Location: The existing project is located on Yards Creek, in the Townships of Hardwick and Blairstown, Warren County, New Jersey. No federal lands are involved.

g. Filed pursuant to: Federal Power Act, 16 U.S.C. 791 (a)-825(r).

h. Applicant Contact: Timothy Oakes, Project Manager, Kleinschmidt Associates, 2 East Main Street, Strasburg, PA 17579; Telephone (717) 687-7211.

i. FERC Contact: Allyson Conner, (202) 502-6082 or allyson.conner@ferc.gov.

j. This application is not ready for environmental analysis at this time.

k. The existing Yards Creek Pumped Storage Hydroelectric Project consists of an upper and a lower reservoir with a total installed capacity of 420 megawatts (MW). The project produces an average annual generation of 753.7 gigawatthours (GWh). The average pumping power used by the project is 1,031.2 GWh.

The lower reservoir consists of: (1) An earthfill main dam located on Yards Creek, that is 1,404 feet (ft) long and 52 ft high with a crest at elevation of 832.5 ft; (2) the lower reservoir has a total storage capacity of 5,452 acre-ft at a spillway crest elevation of 818.5 ft and an usable storage capacity of 4,952 acre-ft with an additional 503 acre-ft in seasonal storage; (3) an auxiliary dike (i.e. Saddle Dam) located on the southeastern side of the lower reservoir is 2,091 ft long and 35 ft high; (4) an auxiliary reservoir located northeast of the lower reservoir with seasonal storage of 412 acre-ft formed by the auxiliary reservoir dam, which is 1,000 ft long and 20 ft high.

The upper reservoir consists of: (1) An earthfill dam that is 8,900 ft long and 70 ft high; (2)the upper reservoir has a total usable storage capacity of 4,763 acre-ft and a gross storage capacity of 5,013 acre-ft at elevation 1,555 ft; (3) water conveyance structures between the upper reservoir and lower reservoir (a 2,116-ft, 35-ft wide intake channel in the floor of the upper reservoir; a 95-ft high concrete intake structure with trashracks and stop logs; a 1,130-ft long, 20-ft diameter concrete-lined pressure tunnel; a 210-ft long, 19-ft diameter steel-lined pressure tunnel; a 144-ft long, 19-ft diameter concrete encased steel-lined transition section; a 478-ft long, 19-ft diameter steel penstock; an 8-ft reducer from 19-ft diameter to 18-ft penstock; a 1,582-ft long, 18-ft steel penstock; a 325-ft long trifurcated penstock, one penstock per pumping-generating unit that tapers from 10-ft diameter to 7-ft 2.5-inch diameter; 86.5-inch spherical guard valves at the entrance to each pump-turbine spiral case); (4) a 140-ft-long by 63.5-ft-wide underground concrete power house, containing 3 vertical shaft, Francis-type, reversible pump-turbine units, each with a nameplate generating capacity of 140 MW; and (5) appurtenant facilities.

The licensee proposes to raise the spillway crest elevation of the lower reservoir by 1 ft, from 818.5 ft to 819.5 ft, by adding wooden flashboards. The licensee also proposes raising the upper reservoir pool elevation 2 ft, from 1,555 ft to 1,557 ft, by allowing only 4 ft of freeboard to the dam crest elevation of 1,561 ft. As an additional precaution to existing monitors and controls, the licensee is proposing to install an overflow structure at the upper reservoir to prevent overtopping the non-overflow structures (dikes) in the event of high water levels. The structure would be installed for emergency backup purpose.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | April 19, 2011.
Filing of recommendations, preliminary terms and conditions, and fishway prescriptions | June 18, 2011.
Commission issues Non-Draft EA | October 16, 2011.
Comments on EA | November 15, 2011.
Modified Terms and Conditions | January 14, 2012.

o. Final amendments to the application must be filed with the Commission no later than 30 days from the issuance date of the notice of ready for environmental analysis.

Dated: March 4, 2011.
Kimberly D. Bose,
Secretary.

[FR Doc. 2011-5489 Filed 3-9-11; 8:45 am]

BILLING CODE 6717-01-P